DEPARTMENT OF THE TREASURY

Submission for OMB Review; Comment Request

December 22, 2009.

The Department of Treasury is planning to submit the following public information collection requirement to OMB for review and clearance under the Paperwork Reduction Act of 1995, Public Law 104-13. A copy of the submission may be obtained by contacting the Departmental Office (DO) Clearance Officer listed. Comments regarding this information collection should be addressed to the OMB reviewer listed and to the Treasury PRA Clearance Officer, Department of the Treasury, 1750 Pennsylvania Ave., NW., Suite 11010, Washington, DC 20220.

DATES: Written comments should be received on or before March 1, 2010 to be assured of consideration.

Office of Small and Disadvantaged Business Utilization (OSDBU)

OMB Number: 1505-0220.

Type of Review: Extension without change of a currently approved collection.

Title: Electronic Capability Statement.

Description: The Electronic Capability Statement will be used by firms that wish to do business with the Department of the Treasury. The form will capture key information such as NAICS, contract and subcontract award information, and past performance. The information will be stored in a database. The database will be used by OSDBU, Treasury Acquisition staff and the Troubled Asset Relief Program to conduct research when searching for small businesses to perform on Treasury contracts.

Respondents: Businesses or other for-profit institutions.

Estimated Total Reporting Burden: 54 hours.

DO Clearance Officer: Robin Byrd, Department of Treasury, OSDBU, 1500 Pennsylvania Ave., NW., Washington, DC 20220; (202) 622-8213

OMB Reviewer: Shagufta Ahmed, Office of Management and Budget, New Executive Office Building, Room 10235, Washington, DC 20503; (202) 395-7873

Dawn D. Wolfgang,
Treasury PRA Clearance Officer.

[FR Doc. E9-30679 Filed 12-30-09; 8:45 am]

BILLING CODE 4810-25-P